DEPARTMENT OF ENERGY

Federal Energy Regulatory Commission

Combined Notice of Filings #1

Take notice that the Commission received the following electric corporate filings:

Docket Numbers: EC13-63-000.

Applicants: Dynegy Roseton, L.L.C., CCI Roseton LLC.

Description: Joint Application for Approval under Section 203 of the Federal Power Act and Request for Expedited Consideration of Dynegy Roseton, L.L.C. and CCI Roseton LLC.

Filed Date: 1/16/13.

Accession Number: 20130116-5132.

Comments Due: 5 p.m. ET 2/6/13.

Take notice that the Commission received the following electric rate filings:

Docket Numbers: ER10-1569-001; ER12-21-005; ER10-2783-003; ER10-2784-003; ER11-2855-004; ER10-2791-003; ER10-2792-003; ER10-1564-002; ER10-1565-002; ER10-2795-003; ER10-2798-003; ER10-1575-001; ER10-2799-003; ER10-2801-003 ER11-3727-002; ER10-1566-002; ER12-2413-001; ER11-2062-002; ER10-2812-002; ER10-1291-003; ER10-2843-001 ER11-4307-002; ER12-1711-002; ER10-2846-003; ER12-261-001; ER10-2871-001; ER10-2875-003; ER10-1568-002 ER10-1581-004; ER10-2876-003; ER10-2878-003; ER10-2879-003; ER10-2880-003; ER10-2888-003; ER10-2896-003 ER10-2913-003; ER10-2914-003; ER10-2916-003; ER10-2915-003; ER12-1525-002; ER12-2019-001; ER12-2398-001 ER10-1582-001; ER11-3459-001; ER10-2931-003; ER10-2969-003; ER11-4308-002; ER10-1580-004; ER11-2856-004; ER11-2857-004; ER10-2947-003; ER11-2504-001; ER11-2505-001; ER11-2864-001; ER11-2506-001; ER11-2508-001; ER12-2137-001; ER11-2510-001; ER12-2545-001; ER11-2863-001; ER11-2854-001; ER11-2513-001; ER11-2515-001; ER11-2742-001; ER11-2784-001; ER11-2805-001; ER10-3143-003.

Applicants: NRG Power Marketing LLC, Agua Caliente Solar, LLC, Arthur Kill Power LLC, Astoria Gas Turbine Power, Avenal Park LLC, Bayou Cove Peaking Power LLC, Big Cajun I Peaking Power LLC, Cabrillo Power I LLC, Cabrillo Power II LLC, Conemaugh Power LLC, Connecticut Jet Power LLC, Cottonwood Energy Company, LP, Devon Power LLC, Dunkirk Power LLC, El Segundo Energy Center LLC, El Segundo Power LLC, Energy Alternatives Wholesale, LLC, Energy Plus Holdings LLC, GenCon Devon LLC, GenCon Energy LLC, GenCon Middletown LLC, Green Mountain Energy Company, High Plains Ranch II, LLC, Huntley Power LLC, Independence Energy LLC, Indian River Power LLC, Keystone Power LLC, Long Beach Generation LLC, Long Beach Peakers LLC, Louisiana Generating LLC, Middletown Power LLC, Montville Power LLC, NEO Freehold LLC, Norwalk Power LLC, NRG Energy Center Dover LLC, NRG Energy Center Paxton LLC, NRG New Jersey Energy Sales LLC, NRG Rockford LLC, NRG Rockford II LLC, NRG Solar Alpine LL, NRG Solar Avra Valley LLC, NRG Solar Borrego I LLC, NRG Solar Blythe LLC, NRG Solar Roadrunner LLC, NRG Sterlington Power LLC, Oswego Harbor Power LLC, Reliant Energy Northeast LLC, Saguaro Power Company LP, San Drag LLC, Sun City Project, Vienna Power LLC, GenOn Bowline, LLC, GenOn Canal, LLC, GenOn Chalk Point, LLC, GenOn Delta, LLC, GenOn Energy Management, LLC, GenOn Florida, LP, GenOn Kendall, LLC, GenOn Marsh Landing, LLC, GenOn Mid-Atlantic, LLC, GenOn Potomac River, LLC, GenOn Power Midwest, LP, GenOn REMA, LLC, GenOn West, LP, GenOn Wholesale Generation, LP, RRI Energy Services, LLC, Sabine Cogen, LP.

Description: Notice of Non-Material Change in Status of NRG Power Marketing LLC, et al.

Filed Date: 1/14/13.

Accession Number: 20130114-5241.

Comments Due: 5 p.m. ET 2/4/13.

Docket Numbers: ER13-768-000.

Applicants: Northern States Power Company, a Minnesota corporation.

Description: Northern States Power Company, a Minnesota Corporation submits tariff filing per 35.13(a)(2)(iii: 2013-01-16_MSHL TOP Agrmt-539 to be effective 12/1/2012.

Filed Date: 1/16/13.

Accession Number: 20130116-5113.

Comments Due: 5 p.m. ET 2/6/13.

Docket Numbers: ER13-769-000.

Applicants: Entergy Mississippi, Inc.

Description: Entergy Mississippi, Inc. submits tariff filing per 35.13(a)(2)(iii: EMI-EAI Splmntl Trns Upgrades Cost Agreement to be effective 12/18/2013.

Filed Date: 1/16/13.

Accession Number: 20130116-5126.

Comments Due: 5 p.m. ET 2/6/13.

Docket Numbers: ER13-770-000.

Applicants: Entergy Louisiana, LLC.

Description: Entergy Louisiana, LLC submits tariff filing per 35.13(a)(2)(iii: ELL-EAI Ouachita Splmnt Trns Cost Agrmnt to be effective 12/18/2013.

Filed Date: 1/16/13.

Accession Number: 20130116-5127.

Comments Due: 5 p.m. ET 2/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2013.
Nathaniel J. Davis, Sr.,
Deputy Secretary.

[FR Doc. 2013-01506 Filed 1-24-13; 8:45 am]

BILLING CODE 6717-01-P